DEPARTMENT OF THE INTERIOR

National Park Service

[NPS-WASO-NAGPRA-21092; PPWOCRADN0-PCU00RP14.R50000]

Notice of Intent To Repatriate Cultural Items: Catalina Island Museum, Avalon, CA

AGENCY: National Park Service, Interior.

ACTION: Notice.

SUMMARY: The Catalina Island Museum, in consultation with the appropriate Indian tribes or Native Hawaiian organizations, has determined that the cultural item listed in this notice meet the definition of a sacred object. Lineal descendants or representatives of any Indian tribe or Native Hawaiian organization not identified in this notice that wish to claim this cultural item should submit a written request to the Catalina Island Museum. If no additional claimants come forward, transfer of control of the cultural item to the lineal descendants, Indian tribes, or Native Hawaiian organizations stated in this notice may proceed.

DATES: Lineal descendants or representatives of any Indian tribe or Native Hawaiian organization not identified in this notice that wish to claim these cultural items should submit a written request with information in support of the request to the Catalina Island Museum at the address in this notice by July 8, 2016.

ADDRESSES: Michael DeMarsche, Ph.D., Catalina Island Museum, 1 Casino Way, Casino Building, P.O. Box 366, Avalon, CA 90704, telephone (310) 510-2416, email director@catalinamuseum.org.

SUPPLEMENTARY INFORMATION: Notice is here given in accordance with the Native American Graves Protection and Repatriation Act (NAGPRA), 25 U.S.C. 3005, of the intent to repatriate a cultural item under the control of the Catalina Island Museum, Avalon, CA, that meets the definition of a sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 1961, one cultural item was donated to the Catalina Island Museum by Catherine Loud as part of a set of 13 baskets, both of native and non-native origin, with no contextual information provided. Requests for information were sent out to tribes based on preliminary assessments of potential affiliation. Based on consultation with the Timbisha Shoshone, catalog number 61.484.13 was identified as a cremation basket and part of a living ceremonial tradition. The Timbisha Shoshone (aka Panamint Shoshone) are located in Death Valley, CA and as part of their final death rites, after cremation occurred, the ashes were collected and placed in a specifically designed basket. This basket is identified as one of them, although no human remains were found with the basket.

Determinations Made by the Catalina Island Museum

Officials of the Catalina Island Museum have determined that:

• Pursuant to 25 U.S.C. 3001(3)(C), the 1 cultural item described above is a specific ceremonial object needed by traditional Native American religious leaders for the practice of traditional Native American religions by their present-day adherents.

• Pursuant to 25 U.S.C. 3001(2), there is a relationship of shared group identity that can be reasonably traced between the sacred object and the Timbisha Shoshone Tribe of Death Valley.

Additional Requestors and Disposition

Lineal descendants or representatives of any Indian tribe or Native Hawaiian organization not identified in this notice that wish to claim this cultural item should submit a written request with information in support of the claim to Michael DeMarsche, Ph.D., Catalina Island Museum, 1 Casino Way, Casino Building, P.O. Box 366, Avalon, CA 90704, telephone (310) 510-2416, email director@catalinamuseum.org, by July 8, 2016. After that date, if no additional claimants have come forward, transfer of control of the sacred object may be to Timbisha Shoshone Tribe of Death Valley.

The Catalina Island Museum is responsible for notifying the Timbisha Shoshone Tribe of Death Valley that this notice has been published.

Dated: May 16, 2016.
Melanie O'Brien,
Manager, National NAGPRA Program.

[FR Doc. 2016-13588 Filed 6-7-16; 8:45 am]

BILLING CODE 4312-50-P